OVERSEAS PRIVATE INVESTMENT CORPORATION

Africa Investment Advisory Council Meeting

Time and Date: Monday, October 21, 2002, Noon—3 PM (OPEN Portion) ¹

¹ Editorial Note: This document was received at the Office of the Federal Register on October 21, 2002.

Place: Offices of the Corporation, Twelfth Floor Europe Room, 1100 New York Avenue, NW., Washington, DC.

Status: Meeting OPEN to the Public.

Matters to Be Considered: 1. Welcome & Introductory Remarks.

2. Introduction to OPIC Instruments & Africa Project Portfolios.

3. Africa Investment Advisory Council: Role & Administrative Issues.

4. Discussion/Q&A.

Note: Due to unforeseen circumstances, this notice is published less than 15 days prior to the meeting (41 CFR 102-3.150(b)).

CONTACT PERSON FOR INFORMATION: Information on the meeting may be obtained from Marysue K. Shore at (202) 336-8630.

Dated: October 21, 2002.
Marysue K. Shore,
Senior Advisor to the President and Director, African Affairs, Overseas Private Investment Corporation.

[FR Doc. 02-27141 Filed 10-24-02; 8:45 am]

BILLING CODE 3210-01-M